DEPARTMENT OF DEFENSE

Department of the Army

Availability for Non-Exclusive, Exclusive, or Partially Exclusive Licensing of U.S. Patent Application Concerning Critical Care Platform Litters

AGENCY: U.S. Army Medical Research and Materiel Command, DOD.

ACTION: Notice.

SUMMARY: In accordance with 37 CFR 404.6, announcement is made of the availability for licensing of U.S. Patent Application No. 09/961,405 entitled “Critical Care Platform for Litters” and filed September 25, 2001. Foreign rights are also available (PCT/US01/29848). The United States Government, as represented by the Secretary of the Army, has rights in this invention.

ADDRESSES: Commander, U.S. Army Medical Research and Materiel Command, ATTN: Command Judge Advocate, MCMR-JA, 504 Scott Street, Fort Detrick, Frederick, Maryland 21702-5012.

FOR FURTHER INFORMATION CONTACT: For patent issues, Ms. Elizabeth Arwine, Patent Attorney, (301) 619-7808. For licensing issues, Dr. Paul Mele, Office of Research & Technology Assessment, (301) 619-6664. Both at telefax (301) 619-5034.

SUPPLEMENTARY INFORMATION: This invention includes a platform having a support surface, a pair of legs connected to the support surface, and footings and securing mechanism on the legs for attaching the invention to a litter that satisfies NATO requirements. The invention attaches to the poles used to carry a patient on a litter such that the invention provides space for the patient's legs to pass under if necessary. A further embodiment of the invention adds at least one accessory clip, which includes at least one attachment for a piece of medical equipment such as medical monitors, ventilators, and infusion pumps.

Luz D. Ortiz,
Army Federal Register.

[FR Doc. 01-27633 Filed 11-1-01; 8:45 am]

BILLING CODE 3710-08-M